COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and service(s) to the Procurement List that will be furnished by nonprofit agencies employing persons who are blind or have other severe disabilities.

DATES: Comments must be received on or before: January 03, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

The Committee for Purchase From People Who Are Blind or Severely Disabled (operating as the U.S. AbilityOne Commission) is proposing to add the product listed below to the Procurement List that will be furnished by nonprofit agencies employing persons who are blind or have other severe disabilities.

Product(s)

NSN(s)—Product Name(s): 5110-00-204-2685—File Set, Hand, Swiss Patten, 12 Piece with Storage Case

Authorized Source of Supply: South Texas Lighthouse for the Blind, Corpus Christi, TX

Mandatory for: Total Government Requirement

Contracting Activity: GENERAL SERVICES ADMINISTRATION, FAS HEARTLAND REGIONAL ADMINISTRATION

In accordance with 41 CFR 51-5.3(b), the Committee intends to add the service listed below to the Procurement List as a mandatory purchase only for the contracting activity and location listed with the proposed qualified nonprofit agency as the authorized source of supply. Prior to adding the service to the Procurement List, the Committee will consider other pertinent information, including information from Government personnel and relevant comments from interested parties regarding the Committee's intent to geographically limit this services requirement.

Services(s)

Service Type: Grounds Maintenance

Mandatory for: US Air Force, Wright Patterson AFB, Area B, Wright-Patterson AFB, OH, 2380 Memorial Road, Wright-Patterson AFB, OH

Authorized Source of Supply: CW Resources, Inc., New Britain, CT

Contracting Activity: DEPT OF DEFENSE, FA8601 AFLCMC PZIO

Michael R. Jurkowski,
Director, Business Operations.

[FR Doc. 2025-21931 Filed 12-3-25; 8:45 am]

BILLING CODE 6353-01-P